DEPARTMENT OF THE INTERIOR

Bureau of Land Management

[LLMT921000-12-L13200000-EL0000-P; MTM 103852]

Notice of Invitation—Coal Exploration License Application MTM 103852, MT

AGENCY: Bureau of Land Management, Interior.

ACTION: Notice.

SUMMARY: Members of the public are hereby invited to participate with Ambre Energy on a pro rata cost sharing basis in a program for the exploration of coal deposits owned by the United States of America in lands located in Big Horn County, Montana, encompassing 9,474.45 acres.

DATES: Any party seeking to participate in this exploration program must send written notice to both the Bureau of Land Management (BLM) and Ambre Energy as provided in the ADDRESSES section below no later than January 3, 2013 or 10 calendar days after the last publication of this Notice in the Sheridan Press newspaper, whichever is later. This Notice will be published once a week for 2 consecutive weeks in the Sheridan Press, Sheridan, Wyoming. Such written notice must refer to serial number MTM 103852.

ADDRESSES: The proposed exploration license and plan are available for review from 9 a.m. to 4 p.m., Monday through Friday, in the public room at the BLM Montana State Office, 5001 Southgate Drive, Billings, Montana.

A written notice to participate in the exploration licenses should be sent to the State Director, BLM Montana State Office, 5001 Southgate Drive, Billings, MT 59101 and Ambre Energy, 170 South Main Street, Suite 700, Salt Lake City, UT 84101.

FOR FURTHER INFORMATION CONTACT: Robert Giovanini by telephone at 406-896-5084 or by email at rgiovani@blm.gov; or Connie Schaff by telephone at 406-896-5060 or by email at cschaff@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The exploration activities will be performed pursuant to the Mineral Leasing Act of 1920, as amended, 30 U.S.C. 201(b), and to the regulations at 43 CFR part 3410. The purpose of the exploration program is to gain additional geologic knowledge of the coal underlying the exploration area for the purpose of assessing the coal resources. The exploration program is fully described and will be conducted pursuant to an exploration license and plan approved by the BLM. The exploration plan may be modified to accommodate the legitimate exploration needs of persons seeking to participate.

The lands to be explored for coal deposits in exploration license MTM 103852 are described as follows:

Principal Meridian, Montana

T. 8 S., R. 40 E.,

Sec.27, W½SW¼ and SW¼SE¼SW¼;

Sec.28, S½N½ and S½;

Sec.29, S½;

Sec.32, SW¼;

Sec.34, W½NW¼NE¼, N½NE¼NW¼, and SE¼NE¼NW¼.

T. 9 S., R. 39 E.,

Sec.12, SW¼SW¼;

Sec.13, lots 1 thru 4, inclusive, W½E½, and W½;

Sec.24, lots 1 thru 4, inclusive, W½E½, and W½;

Sec.25, lots 1 thru 4, inclusive, W½E½, and W½.

T. 9 S., R. 40 E.,

Sec.2, lots 1 and 2, S½NE¼, SE¼NW¼, E½SW¼, and SE¼;

Sec.4, lot 4, and SW¼NW¼;

Sec.5, lots 1 thru 4, inclusive, S½N½, SW¼, N½SE¼, and SW¼SE¼;

Sec.7, SE¼SE¼;

Sec.8, NW¼NE¼, NW¼SW¼NE¼, NW¼, NW¼NE¼SW¼, NW¼SW¼, and NW¼SW¼SW¼;

Sec.11, N½NE¼, and NE¼NW¼;

Sec.17, W½SW¼;

Sec.18, lots 1 thru 4, inclusive, E½ and E½W½;

Sec.19, lots 1 thru 3, inclusive, E½ and E½W½;

Sec.20, W½SW¼NE¼, W½, S½NE¼SE¼, NW¼SE¼, and S½SE¼;

Sec.23, E½, E½NW¼, SW¼NW¼, and SW¼;

Sec.24, All;

Sec.25, N½ and SW¼;

Sec.26, All;

Sec.29, NE¼, N½SW¼, SW¼SW¼, and N½SE¼;

Sec.30, lots 2 thru 4, inclusive, E½SW¼, and SE¼.

Containing 9,474.45 acres.

The Federal coal within the lands described for exploration license MTM 103852 is currently unleased for development of Federal coal reserves.

Phillip C. Perlewitz,
Chief, Branch of Solid Minerals.

[FR Doc. 2012-29224 Filed 12-3-12; 8:45 am]

BILLING CODE 4310-DN-P